DEPARTMENT OF THE INTERIOR

National Park Service

[NPS-WASO-NAGPRA-19930; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains and associated funerary objects, in consultation with the appropriate Indian tribes or Native Hawaiian organizations, and has determined that there is a cultural affiliation between the human remain and associated funerary objects and present-day Indian tribes or Native Hawaiian organizations. Lineal descendants or representatives of any Indian tribe or Native Hawaiian organization not identified in this notice that wish to request transfer of control of the human remain and associated funerary objects should submit a written request to the Peabody Museum of Natural History. If no additional requestors come forward, transfer of control of the human remain and associated funerary objects to the lineal descendants, Indian tribes, or Native Hawaiian organizations stated in this notice may proceed.

DATES: Lineal descendants or representatives of any Indian tribe or Native Hawaiian organization not identified in this notice that wish to request transfer of control of the human remain and associated funerary objects should submit a written request with information in support of the request to the Peabody Museum of Natural History at the address in this notice by February 8, 2016.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains and associated funerary objects under the control of the Peabody Museum of Natural History, Yale University, New Haven, CT. The human remain and associated funerary objects were removed from Pine Island, Marshall County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Peabody Museum of Natural History professional staff in consultation with representatives of the Alabama-Coushatta Tribes of Texas; the Alabama-Quassarte Tribal Town, Oklahoma; the Cherokee Nation, Oklahoma; the Chickasaw Nation, Oklahoma; the Eastern Band of Cherokee Indians of North Carolina; the Coushatta Tribe of Louisiana; the Muscogee (Creek) Nation, Oklahoma; the Thlopthlocco Tribal Town, Oklahoma; and the United Keetoowah Band of Cherokee Indians in Oklahoma.

History and Description of the Remains

Prior to 1915, human remains representing, at minimum, one adult individual were removed from Pine Island in Marshall County, AL by John H. Gunter and donated to the Peabody Museum of Natural History. No known individuals were identified. The 82 associated funerary objects are one ceramic vessel fragment, parts of two flint-lock muskets, two lead balls, 65 brass tinklers, one lot of blue and white glass trade beads, two brass bells (variety Circarch), four ramrod thimbles, two metal springs, and three textile fragments.

Historical and archeological documentation has identified the early inhabitants of the Guntersville Basin as the Koasati (as called by the English) or Kaskinampo (as called by the French), with the Cherokee moving into the region later in the 18th century. Archeological investigations on Pine Island in the late 1800s and again in the 1930s identified both proto-historic and historic occupations. The historic McKee Island Phase occupation dates to approximately A.D. 1650 to 1715. After 1715, it is believed the Koasati abandoned the island and moved south to the Coosa-Tallapoosa River junction. The associated funerary objects are consistent with the earlier historic McKee Island phase occupation of Pine Island by the Koasati. Historical, linguistic, and tribal evidence indicates that descendants of the Koasati are members of four federally recognized tribes: The Alabama-Coushatta Tribe of Texas, the Alabama-Quassarte Tribal Town, Oklahoma, the Coushatta Tribe of Louisiana, and the Muscogee (Creek) Nation, Oklahoma.

Determinations made by the Peabody Museum of Natural History

Officials of the Peabody Museum of Natural History have determined that:

• Pursuant to 25 U.S.C. 3001(9), the human remains described in this notice represent the physical remains of one individual of Native American ancestry.

• Pursuant to 25 U.S.C. 3001(3)(A), the 82 objects described in this notice are reasonably believed to have been placed with or near individual human remains at the time of death or later as part of the death rite or ceremony.

• Pursuant to 25 U.S.C. 3001(2), there is a relationship of shared group identity that can be reasonably traced between the Native American human remain and associated funerary objects and the Alabama-Coushatta Tribes of Texas, the Alabama-Quassarte Tribal Town, Oklahoma, the Coushatta Tribe of Louisiana, and the Muscogee (Creek) Nation, Oklahoma.

Additional Requestors and Disposition

Lineal descendants or representatives of any Indian tribe or Native Hawaiian organization not identified in this notice that wish to request transfer of control of the human remain and associated funerary objects should submit a written request with information in support of the request to Professor David Skelly, Director, Yale Peabody Museum of Natural History, P.O. Box 208118, New Haven, CT 06520-8118, telephone (203) 432-3752, by February 8, 2016. After that date, if no additional requestors have come forward, transfer of control of the human remain and associated funerary objects to the Alabama-Coushatta Tribes of Texas, the Alabama-Quassarte Tribal Town, Oklahoma, the Coushatta Tribe of Louisiana, and the Muscogee (Creek) Nation may proceed.

The Peabody Museum of Natural History is responsible for notifying Alabama-Coushatta Tribes of Texas; the Alabama-Quassarte Tribal Town, Oklahoma; the Cherokee Nation, Oklahoma; the Chickasaw Nation, Oklahoma; the Eastern Band of Cherokee Indians of North Carolina; the Coushatta Tribe of Louisiana; the Muscogee (Creek) Nation, Oklahoma; the Thlopthlocco Tribal Town, Oklahoma; and the United Keetoowah Band of Cherokee Indians in Oklahoma that this notice has been published.

Dated: December 8, 2015.
Amberleigh Malone,
Acting Manager, National NAGPRA Program.

[FR Doc. 2016-00061 Filed 1-6-16; 8:45 am]

BILLING CODE 4312-50-P